ENVIRONMENTAL PROTECTION AGENCY

[FRL-6581-9]

Notice of Proposed Administrative Cost Recovery Settlement Pursuant to the Comprehensive Environmental Response, Compensation, and Liability Act; Double A Metals Site

AGENCY: Environmental Protection Agency.

ACTION: Notice; request for public comment.

SUMMARY: In accordance with Section 122(i) of the Comprehensive Environmental Response, Compensation, and Liability Act, as amended (“CERCLA”), notice is hereby given of a proposed administrative cost recovery settlement under Section 122(h)(1) of CERCLA concerning the Double A Metals Site at 3321 South Pulaski, Chicago, Illinois (“Site”), which was signed by the EPA Director, Superfund Division, Region 5, on March 31, 2000. The settlement resolves an EPA claim under Section 107(a) of CERCLA against V.M.S. & D. Realty, Inc. The settlement requires the settling party to pay, to the Hazardous Substances Superfund, $106,763.45 and thirty (30) percent of any settlement or judgment amount that resolves issues related to the property transfer of the Site from Jepscor Metals, Inc. to V.M.S. & D. Realty, Inc.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the Superfund Records Center, located at 77 West Jackson Boulevard, Seventh Floor, Chicago, Illinois.

DATES: Comments must be submitted on or before May 22, 2000.

ADDRESSES: The proposed settlement and additional background information relating to the settlement are available for public inspection at Superfund Records Center, located at 77 West Jackson Boulevard, Seventh Floor, Chicago, Illinois. A copy of the proposed settlement may be obtained from Superfund Records Center, located at 77 West Jackson Boulevard, Seventh Floor, Chicago, Illinois. Comments should reference the Double A Metals Site and EPA Docket No. V-W-00-C-587 and should be addressed to Steven J. Murawski, Assistant Regional Counsel, 77 West Jackson Boulevard (C-14J), Chicago, Illinois, 60604.

FOR FURTHER INFORMATION CONTACT: Steven J. Murawski, Assistant Regional Counsel, 77 West Jackson Boulevard (C-14J), Chicago, Illinois, 60604.

Dated: March 31, 2000.
William E. Muno,
Director, Superfund Division, Region 5.

[FR Doc. 00-9924 Filed 4-19-00; 8:45 am]

BILLING CODE 6560-50-P